DEPARTMENT OF DEFENSE

Office of the Secretary

Defense Science Board; Notice of Federal Advisory Committee Meeting

AGENCY: Under Secretary of Defense for Research and Engineering, Defense Science Board, Department of Defense.

ACTION: Notice of federal advisory committee meeting.

SUMMARY: The Department of Defense (DoD) is publishing this notice to announce that the following Federal Advisory Committee meeting of the Defense Science Board (DSB) will take place.

DATES: Closed to the public Thursday, February 21, 2019 from 8:00 a.m. to 2:00 p.m.

ADDRESSES: The address of the closed meeting is the Nunn-Lugar Conference Room, 3E863 at the Pentagon, Washington, DC 20301.

FOR FURTHER INFORMATION CONTACT: Lt Col Milo W. Hyde, III, U.S. Air Force, (703)571-0081 (Voice), (703) 697-1860 (Facsimile), milo.w.hyde2.mil@mail.mil (Email). Mailing address is Defense Science Board, 3140 Defense Pentagon, Room 3B888A, Washington, DC 20301-3140. Website: http://www.acq.osd.mil/dsb/. The most up-to-date changes to the meeting agenda can be found on the website.

SUPPLEMENTARY INFORMATION: Due to the circumstances beyond the control of the Department of Defense (DoD) and the Designated Federal Officer, the Defense Science Board was unable to provide public notification required by 41 CFR 102-3.150(a) concerning the meeting on February 21, 2019 of the Defense Science Board. Accordingly, the Advisory Committee Management Officer for the Department of Defense, pursuant to 41 CFR 102-3.150(b), waives the 15-calendar day notification requirement. This meeting is being held under the provisions of the Federal Advisory Committee Act (FACA) (Title 5 United States Code (U.S.C), Appendix), the Government in the Sunshine Act (Title 5 U.S.C., Section 552b), and Title 41 Code of Federal Regulations (CFR), Sections 102-3.140 and 102-3.150.

Purpose of the Meeting: The mission of the DSB is to provide independent advice and recommendations on matters relating to the DoD's scientific and technical enterprise. The objective of the meeting is to obtain, review, and evaluate classified information related to the DSB's mission. DSB membership will meet with DoD Leadership to discuss classified current and future national security challenges within the DoD.

Agenda: The DSB Winter Quarterly Meeting will begin on February 21, 2019 at 8:00 a.m. with opening remarks by Lt Col Milo Hyde, the Designated Federal Officer, and Dr. Craig Fields, DSB Chairman. The first presentation will be from Dr. Arup Chakraborty and Dr. George Whitesides, Co-Chairs of the DSB Task Force on Biology, who will provide a brief on the Task Force on Biology's findings and recommendations and engage in classified discussion with the DSB. The DSB will then vote on the Biology Task Force's findings and recommendations. Next, Honorable John C. Rood, Under Secretary of Defense for Policy, will provide a classified brief on his view of current and future defense challenges. Next, Admiral John M. Richardson, Chief of Naval Operations, will provide a classified brief on his view of the defense issues and challenges the Navy faces. Finally, Honorable Robert F. Behler, Director of Operational Test and Evaluation will provide a classified brief on his view of current and future defense challenges. The meeting will adjourn at 2:00 p.m.

Meeting Accessibility: In accordance with Section 10(d) of the FACA and Title 41 CFR, Section 102-3.155, the DoD has determined that the DSB meeting will be closed to the public. Specifically, the Under Secretary of Defense (Research and Engineering), in consultation with the DoD Office of General Counsel, has determined in writing that the meeting will be closed to the public because it will consider matters covered by title 5 U.S.C., section 552b(c)(1). The determination is based on the consideration that it is expected that discussions throughout will involve classified matters of national security concern. Such classified material is so intertwined with the unclassified material that it cannot reasonably be segregated into separate discussions without defeating the effectiveness and meaning of the overall meetings. To permit the meeting to be open to the public would preclude discussion of such matters and would greatly diminish the ultimate utility of the DSB's findings and recommendations to the Secretary of Defense and to the Under Secretary of Defense (Research and Engineering).

Written Statements: In accordance with Section 10(a)(3) of the FACA and Title 41 CFR, Sections 102-3.105(j) and 102-3.140, interested persons may submit a written statement for consideration by the DSB at any time regarding its mission or in response to the stated agenda of a planned meeting. Individuals submitting a written statement must submit their statement to the DSB DFO provided above at any point; however, if a written statement is not received at least three calendar days prior to the meeting, which is the subject of this notice, then it may not be provided to or considered by the DSB until a later date.

Dated: February 11, 2019.
Shelly E. Finke,
Alternate OSD Federal Register Liaison Officer, Department of Defense.

[FR Doc. 2019-02371 Filed 2-14-19; 8:45 am]

BILLING CODE 5001-06-P